NUCLEAR REGULATORY COMMISSION

[NRC-2015-0001]

Sunshine Act Meeting Notice

DATES: November 2, 9, 16, 23, 30, December 7, 2015.

PLACE: Commissioners' Conference Room, 11555 Rockville Pike, Rockville, Maryland.

STATUS: Public and Closed.

Week of November 2, 2015

There are no meetings scheduled for the week of November 2, 2015.

Week of November 9, 2015—Tentative

There are no meetings scheduled for the week of November 9, 2015.

Week of November 16, 2015—Tentative

Tuesday, November 17, 2015

9:00 a.m. Briefing on the Status of Lessons Learned from the Fukushima Dia-Ichi Accident (Public Meeting). (Contact: Gregory Bowman: 301-415-2939)

This meeting will be webcast live at the Web address— http://www.nrc.gov/.

Thursday, November 19, 2015

9:00 a.m. Hearing on Combined Licenses for South Texas Project, Units 3 and 4: Section 189a. of the Atomic Energy Act Proceeding (Public Meeting). (Contact: Tom Tai: 301-415-8484)

This meeting will be webcast live at the Web address— http://www.nrc.gov/.

Week of November 23, 2015—Tentative

There are no meetings scheduled for the week of November 23, 2015.

Week of November 30, 2015—Tentative

Thursday, December 3, 2015

9:30 a.m. Briefing on Equal Employment Opportunity and Civil Rights Outreach (Public Meeting). (Contact: Larniece McKoy Moore: 301-415-1942)

This meeting will be webcast live at the Web address— http://www.nrc.gov/.

Week of December 7, 2015—Tentative

There are no meetings scheduled for the week of December 7, 2015.

* * * * *

The schedule for Commission meetings is subject to change on short notice. For more information or to verify the status of meetings, contact Denise McGovern at 301-415-0681 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: October 28, 2015.
Denise McGovern,
Policy Coordinator, Office of the Secretary.

[FR Doc. 2015-27825 Filed 10-28-15; 11:15 am]

BILLING CODE 7590-01-P